FEDERAL COMMUNICATIONS COMMISSION

[Report No. 2572]

Petitions for Reconsideration of Action in Rulemaking Proceeding

Petitions for Reconsideration have been filed in the Commission's rulemaking proceeding listed in this Public Notice and published pursuant to 47 CFR section 1.429(e). The full text of this document is available for viewing and copying in Room CY-A257, 445 12th Street, SW., Washington, DC or may be purchased from the Commission's copy contractor, Qualex International (202) 863-2893. Oppositions to these petitions must be filed by September 19, 2002. See section 1.4(b)(1) of the Commission's rules (47 CFR 1.4(b)(1)). Replies to an opposition must be filed within 10 days after the time for filing oppositions has expired.

Subject: In the Matter of Reallocation of the 216-220 MHz, 1390-1395 MHz, 1427-1429 MHz, 1429-1432 MHz, 1432-1435 MHz, 1670-1675 MHz, and 2385-2390 MHz Government Transfer Bands (WT Docket No. 02-8)

Number of Petitions filed: 5.

Marlene H. Dortch,
Secretary.

[FR Doc. 02-22550 Filed 9-3-02; 8:45 am]

BILLING CODE 6712-01-M